DEPARTMENT OF TRANSPORTATION

Federal Aviation Administration

14 CFR Part 121

[Docket No. FAA-2002-11301; Notice No. 02-04]

RIN 2120-AH14

Antidrug and Alcohol Misuse Prevention Programs for Personnel Engaged in Specified Aviation Activities; Extension of Comment Period

AGENCY: Federal Aviation Administration (FAA), DOT.

ACTION: Notice of proposed rulemaking (NPRM); extension of comment period.

SUMMARY: This action extends the comment period for an NPRM that was published on February 28, 2002. In that document, the FAA proposed to clarify regulatory language, increase consistency between the antidrug and alcohol misuse prevention program regulations where possible, and revise regulatory provisions as appropriate. This extension is a result of a joint request from 14 entities.

DATES: Comments must be received on or before July 29, 2002.

ADDRESSES: Comments on this document should be mailed or delivered, in duplicate, to: U.S. Department of Transportation Dockets, Docket No. FAA-2002-11301, 400 Seventh Street, SW., Room Plaza 401, Washington, DC 20590. Comments may be filed and examined in Room Plaza 401 between 10 a.m. and 5 p.m. weekdays, except Federal holidays. Comments also may be sent electronically to the Dockets Management System (DMS) at the following Internet address: http://dms.dot.gov at any time. Commenters who wish to file comments electronically should follow the instructions on the DMS Web site.

FOR FURTHER INFORMATION CONTACT: Diane J. Wood, Manager, AAM-800, Drug Abatement Division, Office of Aerospace Medicine, Federal Aviation Administration, 800 Independence Avenue, SW., Washington, DC 20591, telephone number (202) 267-8442.

SUPPLEMENTARY INFORMATION:

Comments Invited

The FAA invites interested persons to participate in this rulemaking by submitting written comments, data, or views. We also invite comments relating to the economic, environmental, energy, or federalism impacts that might result from adopting the proposals in the NPRM, Notice No. 02-04. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9:00 a.m. and 5:00 p.m., Monday through Friday, except Federal holidays. You may also review the docket using the Internet at the web address in the ADDRESSES section.

Before acting on the proposals in the NPRM, Notice No. 02-04, we will consider all comments we receive on or before the closing date. We will consider comments filed late if it is possible to do so without incurring expense or delay. We may change the proposals in light of the comments we receive.

If you want the FAA to acknowledge receipt of your comments, include with your comments a pre-addressed, stamped postcard on which the docket number appears. We will stamp the date on the postcard and mail it to you.

Background

On February 28, 2002, the FAA published NPRM, Notice No. 02-04, Antidrug and Alcohol Misuse Prevention Programs for Personnel Engaged in Specified Aviation Activities (67 FR 9366). Comments to that document were to be received on or before May 29, 2002.

By letter dated April 29, 2002, 14 entities jointly requested that the FAA extend the comment period for NPRM, Notice No. 02-04, for 90 days. The entities wanted additional time to gather, develop, and analyze data to support their comments regarding a proposed change clarifying the applicability of the drug and alcohol testing regulations to contractors. In addition, subsequent to the April 29 joint request, a representative of one of the entities notified the FAA that the regulatory evaluation was missing from the electronic docket.

While the FAA agrees that additional time for comments may be needed because of the inadvertent administrative error in the electronic docket, the FAA believes that a 90-day extension would be excessive. Therefore, the FAA believes an additional 60 days would be adequate for these entities to provide comment to NPRM, Notice No. 02-04.

Extension of Comment Period

In accordance with § 11.47 of Title 14, Code of Federal Regulations, the FAA has reviewed the April 29 joint request made by the 14 entities for extension of the comment period to NPRM, Notice No. 02-04. Also, the FAA has recognized that there was an administrative error when information was inadvertently omitted from the electronic docket. Therefore, the FAA has found good cause for extending the comment period for 60 days. The FAA also has determined that extension of the comment period is consistent with the public interest.

Accordingly, the comment period for NPRM, Notice No. 02-04, is extended until July 29, 2002.

Issued in Washington, DC, on May 23, 2002.
Jon L. Jordan,
Federal Air Surgeon.

[FR Doc. 02-13366 Filed 5-28-02; 8:45 am]

BILLING CODE 4910-13-P